Title 3—

The President

Proclamation 10035 of May 15, 2020

National Safe Boating Week, 2020

By the President of the United States of America

A Proclamation

During National Safe Boating Week, I am proud to join with the United States Coast Guard and its Federal, State, and local partners in encouraging all Americans to institute the safe boating practices necessary to enjoy our Nation's waters responsibly. For more than 60 years, raising awareness of safe boating procedures has helped reduce injuries and fatalities, even as the number of Americans spending time out on the water has continued to grow.

Boat operators can help reduce the number of water-related accidents through proper preparation and sensible precautions. A free vessel safety check conducted by the United States Coast Guard is an essential first step in ensuring a boat is ready for navigation on the water. New boaters can take courses to learn how they can ensure that everyone returns from the water unharmed. Life jackets also remain indispensable in preventing drowning, the most common cause of boating fatalities. For this reason, every boat needs to be equipped with proper life jackets for everyone onboard, and they should be worn while on the water. Additionally, individuals must never pilot a boat while intoxicated, and passengers should moderate their alcohol consumption as a precaution against accidents. By taking the necessary steps, we can make our Nation's waters even safer for all who enjoy them.

This week, I call upon all Americans to ensure that they are prepared to have safe boating experiences. Through preventative measures and responsible behavior, we can help keep everyone out of harm's way while engaging in boating activities on our Nation's beautiful oceans, lakes, and rivers.

In recognition of the importance of safe boating practices, the Congress, by joint resolution approved June 4, 1958 (36 U.S.C. 131), as amended, has authorized and requested the President to proclaim annually the 7-day period before Memorial Day weekend as “National Safe Boating Week.”

NOW, THEREFORE, I, DONALD J. TRUMP, President of the United States of America, do hereby proclaim May 16 through May 22, 2020, as National Safe Boating Week. I encourage all Americans who participate in boating activities to observe this occasion by learning more about safe boating practices and taking advantage of boating safety education opportunities. I also encourage the Governors of the States and Territories, and appropriate officials of all units of government, to join me in encouraging boating safety through events and activities that align with the White House's “Guidelines for Opening up America Again.”

IN WITNESS WHEREOF, I have hereunto set my hand this fifteenth day of May, in the year of our Lord two thousand twenty, and of the Independence of the United States of America the two hundred and forty-fourth.

[FR Doc. 2020-11053

Filed 5-19-20; 11:15 am]

Billing code 3295-F0-P